DEPARTMENT OF THE INTERIOR

Fish and Wildlife Service

Wheeler National Wildlife Refuge Complex

AGENCY: Fish and Wildlife Service, Interior.

ACTION: Notice of availability of the Final Comprehensive Conservation Plan and Finding of No Significant Impact.

SUMMARY: The Fish and Wildlife Service announces that a Final Comprehensive Conservation Plan (CCP) and Finding of No Significant Impact (FONSI) for the Wheeler National Wildlife Refuge Complex, with refuges in Jackson, Lauderdale, Limestone, Madison, and Morgan Counties, Alabama, is available for distribution. The CCP was prepared pursuant to the National Wildlife Refuge System Improvement Act of 1997, and in accordance with the National Environmental Policy Act of 1969, and describes how the refuge complex will be managed for the next 15 years.

ADDRESSES: A copy of the CCP/FONSI may be obtained by writing to: C. Dwight Cooley, Project Leader, Wheeler National Wildlife Refuge Complex, 2700 Refuge Headquarters Road, Decatur, AL 35603; Telephone: 256/353-7243; Fax 256/353-9728. The CCP/FONSI may also be accessed and downloaded from the Service's Web site: http://southeast.fws.gov/planning/.

SUPPLEMENTARY INFORMATION: With this notice, we finalize the CCP process for the Wheeler National Wildlife Refuge Complex, begun as announced in the Federal Register on July 21, 2005 (70 FR 42084). For more about the process, see that notice. We released the Draft Comprehensive Conservation Plan and Environmental Assessment (Draft CCP/EA) to the public, requesting comments in a notice of availability in the Federal Register on April 5, 2007 (72 FR 16811).

The Draft CCP/EA identified and evaluated four alternatives for managing the refuge complex over the next 15 years. Under Alternative A, the “no-action” alternative, present management would have continued. Current approaches to managing migratory birds, threatened and endangered species, other wildlife and habitats, and allowing for public use would have remained unchanged. Under Alternative B, management would have focused on maximizing opportunities for public visitation, increasing both facilities and activities. Under Alternative C, the refuge complex would have emphasized its biological program by applying maximum efforts to enhance habitat conditions and increase wildlife populations, particularly migratory birds. The visitor services program would have remained as it is at present. We chose Alternative D as the preferred alternative. This determination was made based on the best professional judgment of the planning team and the comments received on the Draft CCP/EA. Under this alternative, the refuge complex will strive to optimize both its biological program and its visitor services program.

Over the 15-year life of the plan, the complex staff will increase emphasis on environmental education and interpretation to lead to a better understanding of the importance of wildlife and habitat resources, especially invasive species, endangered species, and migratory birds. Research studies on the refuge will be fostered and partnerships developed with universities and other agencies, providing needed resources and experiment sites, while meeting the needs of each refuge's wildlife and habitat management programs. New surveys on birds, reptiles, and amphibians will be initiated to develop baseline information.

The Wheeler National Wildlife Refuge Complex is currently comprised of seven national wildlife refuges, spreading across 12,500 square miles of northern Alabama. In addition, the Wheeler Complex administers five Farm Service Agency conservation easement tracts. The Final CCP/FONSI covers four of the seven refuges: Wheeler Refuge in Limestone, Madison and Morgan Counties; Key Cave Refuge in Lauderdale County; Sauta Cave Refuge in Jackson County (formerly known as Blowing Wind Cave); and Fern Cave Refuge in Jackson County. The other three refuges (Cahaba River, Mountain Longleaf, and Watercress Darter) will be addressed at a later date in separate plans.

Wheeler National Wildlife Refuge, consisting of 37,000 acres and located among the cities of Athens, Decatur, and Huntsville, was established in 1938 by Executive Order 7926 as a refuge and breeding ground for migratory birds and other wildlife. Additional purposes were added later under the authorities of the Migratory Bird Conservation Act of 1929 and the Refuge Recreation Act of 1962. Sauta Cave National Wildlife Refuge, known as Blowing Wind Cave National Wildlife Refuge until 1999, is located near Scottsboro. It is a 264-acre refuge purchased in 1978 to provide protection for the federally endangered gray bat (Myotis grisescens) and Indiana bat (Myotis sodalis) and their critical habitat. Fern Cave National Wildlife Refuge, located near Paint Rock, was purchased in 1981 to provide protection for the federally endangered gray and Indiana bats. It consists of 199 acres of forested hillside underlain by a massive cave with many stalactite- and stalagmite-filled rooms. Key Cave National Wildlife Refuge, located about 5 miles southwest of Florence, was established in 1997 to provide protection for the endangered Alabama cavefish (Speoplatyrhinus poulsoni).

Authority: This notice is published under the authority of the National Wildlife Refuge System Improvement Act of 1997, Public Law 105-57.

Dated: July 24, 2007.
Cynthia K. Dohner,
Acting Regional Director.

[FR Doc. E7-18145 Filed 9-13-07; 8:45 am]

BILLING CODE 4310-55-P